DEPARTMENT OF THE INTERIOR

National Park Service

[NPS-WASO-DPOL-17162; PPWODIREP0][PPMPSPD1Y.YM0000]

Notice of December 5, 2014, Teleconference Meeting of the National Park System Advisory Board

AGENCY: National Park Service, Interior.

ACTION: Meeting Notice.

SUMMARY: Notice is hereby given in accordance with the Federal Advisory Committee Act, 5 U.S.C. Appendix 1-16, that the National Park System Advisory Board will conduct a teleconference meeting on December 5, 2014. Members of the public may attend the meeting in person in Washington, DC.

DATES: The teleconference meeting will be held on December 5, 2014, from 3:00 p.m., to 5:00 p.m., Eastern Standard Time, inclusive.

ADDRESSES: The teleconference meeting will be conducted in Conference Room 2023 of the Stewart Lee Udall Department of the Interior Building, 1849 C Street NW., Washington, DC 20240, telephone (202) 208-3818. Photo identification is required for entry to this Federal building.

Agenda: During this teleconference, the Board will deliberate the report of its Philanthropy and Partnerships Committee.

FOR FURTHER INFORMATION CONTACT: For information concerning the National Park System Advisory Board or to request to address the Board, contact Shirley Sears, National Park Service, MC 0004-Policy, 1849 C Street NW., Washington, DC 20240, telephone (202) 354-3955, email shirley_sears@nps.gov.

SUPPLEMENTARY INFORMATION: Due to the limited scope of this meeting, the National Park Service has determined that a teleconference will be the most efficient way to convene the Board members. The Board meeting will be open to the public in the same way that other Board meetings have been open to the public. Space and facilities to accommodate the public are limited and attendees will be accommodated on a first-come basis. Opportunities for oral comment will be limited to no more than 3 minutes per speaker. The Board's Chairman will determine the total allotted time for oral comments; it will be no more than 15 minutes total. Anyone may file with the Board a written statement concerning matters to be discussed. Before including your address, telephone number, email address, or other personal identifying information in your comment, you should be aware that your entire comment—including your personal identifying information—may be made publicly available at any time. While you may ask us in your comment to withhold your personal identifying information from public review, we cannot guarantee that we will be able to do so.

Draft minutes of the meeting will be available for public inspection about 12 weeks after the meeting in the 12th floor conference room at 1201 Eye Street NW., Washington, DC.

Dated: November 14, 2014.
Alma Ripps,
Chief, Office of Policy.

[FR Doc. 2014-27464 Filed 11-19-14; 8:45 am]

BILLING CODE 4310-EE-P